DEPARTMENT OF COMMERCE

International Trade Administration

[A-570-904]

Certain Activated Carbon From the People's Republic of China: Final Results of Antidumping Duty Administrative Review; 2016-2017

AGENCY: Enforcement and Compliance, International Trade Administration, Department of Commerce.

SUMMARY: The Department of Commerce (Commerce) determines that Datong Juqiang Activated Carbon Co. Ltd. (Datong Juqiang) and Carbon Activated Tianjin Co., Ltd. (Carbon Activated) sold activated carbon from the People's Republic of China at less than normal value (NV) during the period of review (POR) April 1, 2016, through March 31, 2017.

DATES: Applicable October 22, 2018.

FOR FURTHER INFORMATION CONTACT: John Anwesen or Jinny Ahn, AD/CVD Operations, Office VIII, Enforcement and Compliance, International Trade Administration, Department of Commerce, 1401 Constitution Avenue NW, Washington, DC 20230; telephone: (202) 482-0131, or (202) 482-0339, respectively.

SUPPLEMENTARY INFORMATION:

Background

Commerce published the Preliminary Results ¹ on May 18, 2018. For events subsequent to the Preliminary Results, see Commerce's Issues and Decision Memorandum.² On August 2, 2018,³ in accordance with section 751(a)(3)(A) of the Tariff Act of 1930, as amended (the Act), Commerce extended the deadline for issuing the final results until October 17, 2018.

¹ See Certain Activated Carbon from the People's Republic of China: Preliminary Results of Antidumping Duty Administrative Review and Preliminary Determination of No Shipments; 2016-2017, 83 FR 23254 (May 18, 2018) (Preliminary Results), and accompanying Preliminary Decision Memorandum (PDM).

² See Memorandum, “Certain Activated Carbon from the People's Republic of China: Issues and Decision Memorandum for the Final Results of the Tenth Antidumping Duty Administrative Review,” dated concurrently with, and hereby adopted by, this notice (Issues and Decision Memorandum).

³ See Memorandum, “Activated Carbon from the People's Republic of China: Extension of Deadline for Final Results of 2016-2017 Antidumping Duty Administrative Review,” dated August 2, 2018.

Scope of the Order

The merchandise subject to the Order ⁴ is certain activated carbon. The products are currently classifiable under the Harmonized Tariff Schedule of the United States (HTSUS) subheading 3802.1000. Although the HTSUS subheading is provided for convenience and customs purposes, the written description of the scope of the order remains dispositive.⁵

⁴ See Notice of Antidumping Duty Order: Certain Activated Carbon from the People's Republic of China, 72 FR 20988 (April 27, 2007) (Order).

⁵ See Issues and Decision Memorandum for a complete description of the scope of the Order.

Analysis of Comments Received

In the Issues and Decision Memorandum, we addressed all issues raised in parties' case and rebuttal briefs. In Appendix I to this notice, we provided a list of the issues raised by parties. The Issues and Decision Memorandum is a public document and is on file in the Central Records Unit (CRU), Room B8024 of the main Department of Commerce building, as well as electronically via Enforcement and Compliance's Antidumping and Countervailing Duty Centralized Electronic Service System (ACCESS). ACCESS is available to registered users at https://access.trade.gov and it is available to all parties in the CRU. In addition, parties can directly access a complete version of the Issues and Decision Memorandum on the internet at http://enforcement.trade.gov/frn/index.html. The signed Issues and Decision Memorandum and the electronic version of the Issues and Decision Memorandum are identical in content.

Changes Since the Preliminary Results

Based on our review of the record and comments received from interested parties regarding our Preliminary Results, we made certain revisions to the margin calculations for Carbon Activated and Datong Juqiang,⁶ and to the rate assigned to the non-examined, separate rate respondents. Further, the Issues and Decision Memorandum contains descriptions of these revisions.⁷

⁶ See Memoranda, “Antidumping Duty Administrative Review of Certain Activated Carbon from the People's Republic of China: Final Results Calculation Memorandum for Carbon Activated” (Carbon Activated's Final Calculation Memorandum) and “Antidumping Duty Administrative Review of Certain Activated Carbon the People's Republic of China: Final Results Calculation Memorandum for Datong Juqiang Activated Carbon Co., Ltd. ” (Datong Juqiang's Final Calculation Memorandum) dated concurrently with this memorandum; see also Memorandum, “Tenth Administrative Review of Certain Activated Carbon from the People's Republic of China: Surrogate Values for the Final Results,” dated concurrently with this memorandum.

⁷ See Issues and Decisions Memorandum at 3-4 for a summary of these revisions.

Final Determination of No Shipments

In the Preliminary Results, we preliminarily determined that Calgon Carbon (Tianjin) Co., Ltd., (Calgon Tianjin), Datong Municipal Yunguang Activated Carbon Co., Ltd. (Datong Yunguang), Jilin Bright Future Chemicals Co., Ltd. (Jilin Bright Future), Shanxi Dapu International Trade Co., Ltd. (Shanxi Dapu), Shanxi Industry Technology Trading Co., Ltd. (Shanxi Industry), Shanxi Tianxi Purification Filter Co., Ltd. (Shanxi Tianxi), and Tianjin Channel Filters Co., Ltd. (Tianjin Channel) had no shipments of subject merchandise to the United States during the POR.⁸ We received no information to contradict this determination. Therefore, we continue to find that Calgon Tianjin, Datong Yunguang, Jilin Bright Future, Shanxi Dapu, Shanxi Industry, Shanxi Tianxi, and Tianjin Channel had no shipments of subject merchandise during the POR and will issue appropriate liquidation instructions that are consistent with our “automatic assessment” clarification for these final results.⁹

⁸ See Preliminary Results, 83 FR at 23255.

⁹ See Non-Market Economy Antidumping Proceedings: Assessment of Antidumping Duties, 76 FR 65694 (October 4, 2011) (Assessment Practice Refinement).

Separate Rate Respondents

In our Preliminary Results, we determined that Carbon Activated, Datong Juqiang, and six other companies demonstrated their eligibility for separate rates.¹⁰ We received no comments or argument since the issuance of the Preliminary Results that provide a basis for reconsideration of these determinations. Therefore, for these final results, we continue to find that the six companies listed in the table in the “Final Results” section of this notice are eligible for a separate rate.

¹⁰ See Preliminary Results, and accompanying PDM at 5-9.

Rate for Non-Examined Separate Rate Respondents

The statute and our regulations do not address the establishment of a rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Section 735(c)(5)(A) of the Act articulates a preference for not calculating an all-others rate using rates which are zero, de minimis, or based entirely on facts available.¹¹ Accordingly, we generally will determine the dumping margin for companies not individually examined by averaging the weighted-average dumping margins for the individually examined respondents, excluding rates that are zero, de minimis, or based entirely on facts available.¹²

¹¹ See Ball Bearings and Parts Thereof from France, Germany, Italy, Japan, and the United Kingdom: Final Results of Antidumping Duty Administrative Reviews and Rescission of Reviews in Part, 73 FR 52823, 52824 (September 11, 2008), and accompanying Issues and Decision Memorandum (IDM) at Comment 16.

¹² See, e.g., Preliminary Determination of Sales at Less Than Fair Value and Partial Affirmative Determination of Critical Circumstances: Certain Polyester Staple Fiber from the People's Republic of China, 71 FR 77373, 77377 (December 26, 2006), unchanged in Final Determination of Sales at Less Than Fair Value and Partial Affirmative Determination of Critical Circumstances: Certain Polyester Staple Fiber from the People's Republic of China, 72 FR 19690 (April 19, 2007).

For the final results, we calculated a rate only for Carbon Activated that was not zero, de minimis, or based entirely on facts available.¹³ Therefore, for these final results, following the practice described above, we have assigned to the companies that have not been individually examined, but have demonstrated their eligibility for a separate rate, the weighted-average rate calculated for Carbon Activated.

¹³ See Carbon Activated's Final Calculation Memorandum and Datong Juqiang's Final Calculation Memorandum.

Final Results of the Review

For companies subject to this review, which established their eligibility for a separate rate, Commerce determines that the following weighted-average dumping margins exist for the POR from April 1, 2016, through March 31, 2017:

¹⁴ In the second administrative review of the Order, Commerce determined that it would calculate per-unit weighted-average dumping margins and assessment rates for all future reviews. See Certain Activated Carbon from the People's Republic of China: Final Results and Partial Rescission of Second Antidumping Duty Administrative Review, 75 FR 70208, 70211 (November 17, 2010) (AR2 Carbon), and accompanying IDM at Comment 3.

¹⁵ In the third administrative review of the Order, Commerce found that Jacobi Carbons AB, Tianjin Jacobi International Trading Co. Ltd., and Jacobi Carbons Industry (Tianjin) are a single entity and, because there were no facts presented on the record of this review which would call into question our prior finding, we continue to treat these companies as part of a single entity for this administrative review, pursuant to sections 771(33)(E), (F), and (G) of the Act and 19 CFR 351.401(f). See Certain Activated Carbon from the People's Republic of China: Final Results and Partial Rescission of Third Antidumping Duty Administrative Review, 76 FR 67142, 67145 n.25 (October 31, 2011); see also Preliminary Results, and accompanying PDM at n.26.

Exporter | Weighted- average dumping margin (USD/kg) ¹⁴
Beijing Pacific Activated Carbon Products Co., Ltd | 0.45
Carbon Activated Tianjin Co., Ltd | 0.45
Datong Juqiang Activated Carbon Co., Ltd | 0.00
Jacobi Carbons AB ¹⁵ | 0.45
Ningxia Guanghua Cherishmet Activated Carbon Co., Ltd | 0.45
Ningxia Huahui Activated Carbon Co., Ltd | 0.45
Ningxia Mineral & Chemical Limited | 0.45
Shanxi Sincere Industrial Co., Ltd | 0.45

In the Preliminary Results, Commerce found that 16 companies for which a review was requested did not establish eligibility for a separate rate because they did not file a separate rate application or a separate rate certification, as appropriate. No interested party commented on Commerce's preliminary determination with respect to these 16 companies. Therefore, for these final results we determine these companies, listed in Appendix II of this notice, to be part of the China-wide entity. Because no party requested a review of the China-wide entity, and Commerce no longer considers the China-wide entity as an exporter conditionally subject to administrative reviews,¹⁶ we did not conduct a review of the China-wide entity. Thus, the weighted-average dumping margin for the China-wide entity (i.e., 2.42 USD/kg) ¹⁷ is not subject to change as a result of this review.

¹⁶ See Antidumping Proceedings: Announcement of Change in Department Practice for Respondent Selection in Antidumping Duty Proceedings and Conditional Review of the Nonmarket Economy Entity in NME Antidumping Duty Proceedings, 78 FR 65963, 65969-70 (November 4, 2013).

¹⁷ See, e.g., Certain Activated Carbon from the People's Republic of China: Final Results of Antidumping Duty Administrative Review; 2012-2013, 79 FR 70163, 70165 (November 25, 2014).

Assessment Rates

Pursuant to section 751(a)(2)(C) of the Act and 19 CFR 351.212(b), Commerce has determined, and U.S Customs and Border Protection (CBP) shall assess, antidumping duties on all appropriate entries covered by this review. We intend to issue assessment instructions to CBP 15 days after the publication date of these final results of review.

For each individually-examined respondent in this review which has a final weighted-average dumping margin that is not zero or de minimis (i.e., less than 0.5 percent), we will calculate importer- (or customer-) specific per-unit duty assessment rates based on the ratio of the total amount of dumping calculated for the importer's (or customer's) examined sales to the total sales quantity associated with those sales, in accordance with 19 CFR 351.212(b)(1).¹⁸ We will also calculate (estimated) ad valorem importer-specific assessment rates with which to determine whether the per-unit assessment rates are de minimis.¹⁹ Where either the respondent's weighted-average dumping margin is zero or de minimis, or an importer- (or customer-) specific assessment rate is zero or de minimis, we will instruct CBP to liquidate the appropriate entries without regard to antidumping duties.²⁰

¹⁸ See AR2 Carbon, and accompanying IDM at Comment 3.

¹⁹ For calculated (estimated) ad valorem importer-specific assessment rates used in determining whether the per-unit assessment rate is de minimis, see Carbon Activated's Final Calculation Memorandum and Datong Juqiang's Calculation Memorandum and attached Margin Calculation Program Logs and Outputs.

²⁰ See 19 CFR 351.106(c)(2).

For the respondents which were not selected for individual examination in this administrative review and which qualified for a separate rate, the assessment rate will be equal to the rate assigned to them for the final results (i.e., 0.45 USD/kg).

For the companies identified in Appendix II as part of the China-wide entity, we will instruct CBP to apply a per-unit assessment rate of 2.42 USD/kg to all entries of subject merchandise during the POR which were produced or exported by those companies.

Pursuant to a refinement in our non-market economy practice, for sales that were not reported in the U.S. sales data submitted by companies individually examined during this review, we will instruct CBP to liquidate entries associated with those sales at the rate for the China-wide entity. Furthermore, where we found that an exporter under review had no shipments of the subject merchandise, any suspended entries that entered under that exporter's case number (i.e., at that exporter's cash deposit rate) will be liquidated at the rate for the China-wide entity.²¹

²¹ For a full discussion of this practice, see Assessment Practice Refinement, 76 FR at 65694.

Cash Deposit Requirements

The following per-unit cash deposit requirements will be effective upon publication of the final results of this administrative review for all shipments of the subject merchandise from China entered, or withdrawn from warehouse, for consumption on or after the publication date, as provided by section 751(a)(2)(C) of the Act: (1) For Carbon Activated, Datong Juqiang, and the non-examined, separate rate respondents, the cash deposit rate will be equal to their weighted-average dumping margins established in the final results of this review; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 2.42 USD/kg); and (4) for all non-Chinese exporters of subject merchandise which have not received their own separate rate, the cash deposit rate will be the rate applicable to the Chinese exporter(s) that supplied that non-Chinese exporter. These per-unit cash deposit requirements, when imposed, shall remain in effect until further notice.

Disclosure

We intend to disclose the calculations performed to parties in this proceeding within five days of the date of publication of this notice in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review and notice in accordance with sections 751(a)(1) and 777(i) of the Act.

Date: October 16, 2018.
James Maeder,
Associate Deputy Assistant Secretary for Antidumping and Countervailing Duty Operations performing the duties of Deputy Assistant Secretary for Antidumping and Countervailing Duty Operations.

Appendix I

Issues and Decision Memorandum

Summary

Background

Scope of the Order

Changes Since the Preliminary Results

Discussion of the Issues

Comment 1: Use of Import Statistics In lieu of Highest Calculated Normal Value as Adverse Facts Available

Comment 2: Coal Tar Surrogate Value

Comment 3: Carbonized Material Surrogate Value

Comment 4: Hydrochloric Acid Surrogate Value

Comment 5: Labor Surrogate Value

Comment 6: Whether to Continue to Use the Thai Financial Statements

Comment 7: Value-Added Tax Adjustments

Comment 8: Ministerial Errors

Recommendation

Appendix II

Companies Not Eligible for a Separate Rate and To Be Treated as Part of China-Wide Entity

Company

1. Beijing Embrace Technology Co., Ltd.

2. Datong Municipal Yunguang Activated Carbon Co., Ltd.

3. Jilin Bright Future Chemicals Co., Ltd.

4. Meadwestvaco (China) Holding Co., Ltd.

5. Ningxia Guanghua A/C Co., Ltd.

6. Ningxia Guanghua Activated Carbon Co., Ltd.

7. Ningxia Guanghua Chemical Activated Carbon Co., Ltd.

8. Ningxia Jirui Activated Carbon

9. Shanxi Dapu International Trade Co., Ltd.

10. Shanxi DMD Corporation

11. Shanxi Industry Technology Trading Co., Ltd.

12. Tancarb Activated Carbon Co., Ltd.

13. Tangshan Solid Carbon Co., Ltd.

14. Tianjin Channel Filters Co., Ltd.

15. Tianjin Jacobi International Trading Co., Ltd.

16. Tianjin Maijin Industries Co., Ltd.

[FR Doc. 2018-22969 Filed 10-19-18; 8:45 am]

BILLING CODE 3510-DS-P